DEPARTMENT OF LABOR

Employment and Training Administration

[TA-W-50,801; TA-W-50,801A]

Johnston Industries Alabama, Inc., Opp & Micolas Mills, Opp, Alabama; and Johnston Industries, Inc., New York, New York; Amended Certification Regarding Eligibility To Apply for Worker Adjustment Assistance

In accordance with section 223 of the Trade Act of 1974 (19 U.S.C. 2273) the Department of Labor issued a Certification of Eligibility to Apply for Worker Adjustment Assistance on April 9, 2003, applicable to workers of Johnston Industries Alabama, Inc., Opp & Micolas Mills, Opp, Alabama. The notice was published in the Federal Register on April 24, 2003 (68 FR 20177).

At the request of a petitioner, the Department reviewed the certification for workers of the subject firm. The workers were engaged in the production of window treatment fabrics for the textile industry.

Information shows that worker separations occurred at the New York, New York location of the subject firm. The workers provided sales and design functions for the subject firm's production facility located in Opp, Alabama.

Accordingly, the Department is amending the certification to include workers of Johnston Industries, Inc., New York, New York.

The intent of the Department's certification is to include all workers of Johnston Industries Alabama, Inc., Opp & Micolas Mills who were adversely affected by increased imports.

The amended notice applicable to TA-W-50,801 is hereby issued as follows:

All workers of Johnston Industries Alabama, Inc., Opp & Micolas Mills, Opp, Alabama (TA-W-50,801) and Johnston Industries, Inc., New York, New York (TA-W-50,801A), who became totally or partially separated from employment on or after February 4, 2002, through April 9, 2005, are eligible to apply for adjustment assistance under section 223 of the Trade Act of 1974.

Signed at Washington, DC, this 14th day of January, 2004.
Elliott S. Kushner,
Certifying Officer, Division of Trade Adjustment Assistance.

[FR Doc. E4-140 Filed 1-27-04; 8:45 am]

BILLING CODE 4510-13-P